Proclamation 9598 of April 28, 2017

National Physical Fitness and Sports Month, 2017

By the President of the United States of America

A Proclamation

During National Physical Fitness and Sports Month, we remind Americans of all ages and backgrounds that maintaining a healthy and active lifestyle is critical to long-term physical and mental well-being, productivity, and quality of life. We also highlight the close relationship between sports and physical fitness and the benefits related to participation in sports, including disease prevention, lessons in teamwork and leadership, and the practice of overcoming adversity. In addition to their physical health benefits, sports promote positive mentoring, discipline, and structure for young Americans.

In 1956, President Dwight D. Eisenhower formed the President's Council on Youth Fitness, demonstrating a national commitment to improving health and physical fitness. President Eisenhower's legacy lives on today in the form of the President's Council on Fitness, Sports, and Nutrition, which advises me on health and fitness and engages with communities across the country to improve youth fitness and empower Americans to adopt healthy lifestyles that include regular physical activity and good nutrition. My Administration will continue this tradition, with a particular focus on promoting sports and physical fitness among our youth.

As we each work to maintain our own physical fitness, we play a part in building a stronger and healthier America. Failure to engage in physical activity contributes to serious negative health outcomes, including obesity and diseases such as type 2 diabetes, and an increased risk of heart disease, the number one cause of death in America. Complications from these health problems often impact quality of life and frequently lead to other related and debilitating conditions.

As we celebrate National Physical Fitness and Sports Month, let us commit ourselves to celebrating active lifestyles, promoting physical fitness, and tackling public health issues together by making healthier choices. Let us rededicate ourselves each day to childhood obesity prevention, and recognize the role that sports can play in our Nation's health and well-being. Throughout May, I encourage all Americans to eat nutritious food, to take more time each day to be active, and to inspire friends, family, peers, and loved ones to do the same.

Finally, the Americans who serve our Nation's youth through sports and other physical activities deserve our collective appreciation. Whether through coaching, driving kids to and from practice, or organizing the leagues and events that make sport competitions possible, these Americans make countless unseen sacrifices that merit special recognition.

NOW, THEREFORE, I, DONALD J. TRUMP, President of the United States of America, by virtue of the authority vested in me by the Constitution and the laws of the United States, do hereby proclaim May 2017, as National Physical Fitness and Sports Month. I call upon the people of the United States to make physical activity and sports participation a priority in their lives.

IN WITNESS WHEREOF, I have hereunto set my hand this twenty-eighth day of April, in the year of our Lord two thousand seventeen, and of the Independence of the United States of America the two hundred and forty-first.

[FR Doc. 2017-09076

Filed 5-2-17; 11:15 am]

Billing code 3295-F7-P